DEPARTMENT OF COMMERCE

National Oceanic and Atmospheric Administration

Federal Consistency Appeal by Chicago Deer River Properties, LLC, d/b/a Theodore Industrial Port

AGENCY: National Oceanic and Atmospheric Administration (NOAA), Department of Commerce.

ACTION: Notice of appeal.

SUMMARY: This announcement provides notice that Chicago Deer River Properties, LLC, d/b/a Theodore Industrial Port (Theodore Industrial Port), has filed an administrative appeal with the Department of Commerce (Department), asking that the Secretary override an objection by the Alabama Department of Environmental Management (Alabama) to the proposed filling of a tidal pond at Theodore Industrial Port facilities in Theodore, Alabama, near Mobile Bay.

DATES: Comments regarding this appeal or requests for a public hearing must be sent in writing to the NOAA, Office of General Counsel for Ocean Services postmarked or e-mailed no later than January 29, 2010.

ADDRESSES: Materials from the appeal record will be available at the NOAA, Office of General Counsel for Ocean Services, 1305 East-West Highway, Room 6111, Silver Spring, MD 20910 and on the following Web site: http://www.ogc.doc.gov/czma.htm.

FOR FURTHER INFORMATION CONTACT: Thomas Street, Attorney-Advisor, NOAA, Office of General Counsel, 301-713-7390, or at gcos.inquiries@noaa.gov.

SUPPLEMENTARY INFORMATION:

I. Notice of Appeal

On November 25, 2009, Theodore Industrial Port filed notice of an appeal with the Secretary of Commerce (Secretary), pursuant to the Coastal Zone Management Act of 1972 (CZMA), 16 U.S.C. 1451 et seq., and implementing regulations found at 15 CFR part 930, subpart H. The appeal is taken from an objection by Alabama to Theodore Industrial Port's consistency certification for a U.S. Army Corps of Engineers permit for a proposed port enhancement project at the Theodore Industrial Port in Theodore, Alabama. The specific activity sought to be permitted involves the filling of a tidal pond.

Under the CZMA, the Secretary may override Alabama's objection on grounds that the project is consistent with the objectives or purposes of the CZMA or otherwise necessary in the interest of national security. To make the determination that the proposed activity is “consistent with the objectives or purposes of the CZMA,” the Department must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of the applicable coastal management program. 15 CFR 930.121. Conversely, to make the determination that the proposed activity is “necessary in the interest of national security,” the Secretary must find that a national defense or other national security interest would be significantly impaired were the activity not permitted to go forward as proposed. 15 CFR 930.122.

II. Opportunity for Federal Agency and Public Comment

Pursuant to Department of Commerce regulations, the public and interested federal agencies may submit comments on this appeal. Written comments must be sent no later than January 29, 2010 to the attention of Thomas Street, NOAA, Office of General Counsel for Ocean Services, 1305 East-West Highway, Room 6111, Silver Spring, MD 20910 or via e-mail to gcos.comments@noaa.gov.

III. Opportunity for a Public Hearing

Pursuant to Department of Commerce regulations, the Secretary may hold a public hearing on this appeal, either in response to a request for a public hearing or at the Secretary's own initiative. If a public hearing is held, it shall be noticed in the Federal Register, and the Secretary shall reopen the public and Federal agency comment period for a 10-day period following the hearings. Written requests for a public hearing must be sent no later than January 29, 2010 to the attention of Thomas Street, NOAA, Office of General Counsel for Ocean Services, 1305 East West Highway, Room 6111, Silver Spring, MD 20910 or via e-mail to gcos.comments@noaa.gov.

IV. Appeal Documents

NOAA intends to provide the public with access to all publicly available materials and related documents comprising the appeal record on the following Web site: http://www.ogc.doc.gov/czma.htm; and during business hours, at the NOAA, Office of General Counsel for Ocean Services. For additional information concerning this appeal, please contact Thomas Street, NOAA, Office of General Counsel for Ocean Services, 301-713-7390 or gcos.inquiries@noaa.gov.

[Federal Domestic Assistance Catalog No. 11.419 Coastal Zone Management Program Assistance.]

Dated: December 18, 2009.
Joel La Bissonniere,
Assistant General Counsel for Ocean Services, NOAA.

[FR Doc. E9-30532 Filed 12-22-09; 8:45 am]

BILLING CODE 3510-08-P